DEPARTMENT OF HEALTH AND HUMAN SERVICES

National Institutes of Health

Amended Notice of Establishment

Notice is hereby given as a correction in the announcement of the establishment of the NCI-Frederick Advisory Committee, which was published in the Federal Register on March 15, 2011, 75 FR 14035.

This FRN is amended to replace the word “Council” used in the second paragraph to the word “Committee”.

Dated: March 16, 2011.
Jennifer S. Spaeth,
Director, Office of Federal Advisory Committee Policy.

[FR Doc. 2011-6742 Filed 3-21-11; 8:45 am]

BILLING CODE 4140-01-P